DEPARTMENT OF TRANSPORTATION

Federal Aviation Administration

14 CFR Part 39

[Docket No. FAA-2006-24095; Directorate Identifier 2006-CE-21-AD; Amendment 39-14624; AD 2006-11-19]

RIN 2120-AA64

Airworthiness Directives; DORNIER LUFTFAHRT GmbH Models 228-100, 228-101, 228-200, 228-201, 228-202, and 228-212 Airplanes

AGENCY: Federal Aviation Administration (FAA), Department of Transportation (DOT).

ACTION: Final rule.

SUMMARY: We are adopting a new airworthiness directive (AD) for all DORNIER LUFTFAHRT GmbH Models 228-100, 228-101, 228-200, 228-201, 228-202, and 228-212 airplanes. This AD requires you to repetitively inspect the wiring in the flight deck overhead panels (locations 5VE and 6VE) for chafing and damage and repair any chafed or damaged wires. Regardless of the results of each inspection, this AD requires you to assure correct installation of the wiring in the flight deck overhead panels by reattaching or replacing the wire tie attachment holders and securing any loose wires to the wire tie attachment holders with plastic wire ties. This AD results from mandatory continuing airworthiness information (MCAI) issued by the airworthiness authority for Germany. We are issuing this AD to detect, correct, and prevent chafed or damaged wires in the flight deck overhead panels, which could result in short-circuiting of related wiring. This condition could lead to electrical failure of affected systems and potential fire in the flight deck.

DATES: This AD becomes effective on July 14, 2006.

As of July 14, 2006, the Director of the Federal Register approved the incorporation by reference of certain publications listed in the regulation.

ADDRESSES: For service information identified in this AD, contact RUAG Services GmbH, P.O. Box 1253, D-82231 Wessling, Germany; telephone: (08153) 302506; fax: (08153) 304601.

To view the AD docket, go to the Docket Management Facility; U.S. Department of Transportation, 400 Seventh Street, SW., Nassif Building, Room PL-401, Washington, DC 20590-001 or on the Internet at http://dms.dot.gov. The docket number is FAA-2006-24095; Directorate Identifier 2006-CE-21-AD.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Discussion

On March 22, 2006, we issued a proposal to amend part 39 of the Federal Aviation Regulations (14 CFR part 39) to include an AD that would apply to DORNIER LUFTFAHRT GmbH (DORNIER) Models 228-100, 228-101, 228-200, 228-201, 228-202, and 228-212 airplanes. This proposal was published in the Federal Register as a notice of proposed rulemaking (NPRM) on March 29, 2006 (71 FR 15647). The NPRM proposed to require you to repetitively inspect the wiring in the flight deck overhead panels (locations 5VE and 6VE) for chafing and damage and repair any chafed or damaged wires. Regardless of the results of each inspection, the NPRM would require you to assure correct installation of the wiring in the flight deck overhead panels by reattaching or replacing the wire tie attachment holders and securing any loose wires to the wire tie attachment holders with plastic wire ties.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 14 airplanes in the U.S. registry.

We estimate the following costs to do the inspection:

Labor costs | Parts costs | Total cost per airplane | Total cost on U.S. operators
2 workhours × $80 per hour = $160 | Not applicable | $160 | $160 × 14 = $2,240.

We estimate the following costs to do any necessary repairs that will be required based on the results of the inspection. We have no way of determining the number of airplanes that may need this repair:

Labor cost | Parts cost | Total cost per airplane
3 workhours × $80 per hour = $240 | $100 | $240 + $100 = $340.

Note: The cure time for the adhesive that is recommended in the service information is 48 hours at 25 degrees Celsius (77 degrees Fahrenheit) or 2 hours at 65 degrees Celsius (149 degrees Fahrenheit).

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-24095; Directorate Identifier 2006-CE-21-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2006-11-19 DORNIER LUFTFAHRT GmbH: Amendment 39-14624; Docket No. FAA-2006-24095; Directorate Identifier 2006-CE-21-AD.

Effective Date

(a) This AD becomes effective on July 14, 2006.

Affected ADs

(b) None.

Applicability

(c) This AD affects Models 228-100, 228-101, 228-200, 228-201, 228-202, and 228-212 airplanes, all serial numbers, that are certificated in any category.

Unsafe Condition

(d) This AD results from mandatory continuing airworthiness information (MCAI) issued by the airworthiness authority for Germany. We are issuing this AD to detect, correct, and prevent chafed or damaged wires in the flight deck overhead panels, which could result in short-circuiting of related wiring. This condition could lead to electrical failure of affected systems and potential fire in the flight deck.

Compliance

(e) To address this problem, you must do the following:

Actions | Compliance | Procedures
(1) Inspect the wiring in the flight deck overhead panels (locations 5VE and 6VE) for chafing and damage | Within the next 100 hours time-in-service after July 14, 2006 (the effective date of this AD). Repetitively inspect thereafter at intervals not to exceed 12 months | Follow RUAG AOT Dornier 228, All Operators Telefax service information No. AOT-228-24-028, Date of Issue: November 9, 2005.
(2) If you find any chafed or damaged wires during any inspection required in paragraph (e)(1) of this AD, repair the affected wire(s) and assure correct installation of the wiring in the flight deck overhead panels by reattaching or replacing the wire tie attachment holders and securing any loose wires to the wire tie attachment holders with plastic wire ties | Before further flight after each inspection required in paragraph (e)(1) of this AD. Continue with the repetitive inspections as specified in paragraph (e)(1) of this AD | Follow RUAG AOT Dornier 228, All Operators Telefax service information No. AOT-228-24-028, Date of Issue: November 9, 2005.
(3) If you do not find any chafed or damaged wires during any inspection required in paragraph (e)(1) of this AD, assure correct installation of the wiring in the flight deck overhead panels by reattaching or replacing the wire tie attachment holders and securing any loose wires to the wire tie attachment holders with plastic wire ties | Before further flight after each inspection required in paragraph (e)(1) of this AD. Continue with the repetitive inspections as specified in paragraph (e)(1) of this AD | Follow RUAG AOT Dornier 228, All Operators Telefax service information No. AOT-228-24-028, Date of Issue: November 9, 2005.

Alternative Methods of Compliance (AMOCs)

(f) The Manager, Standards Office, Small Airplane Directorate, FAA, ATTN: Karl Schletzbaum, Aerospace Engineer, FAA, Small Airplane Directorate, 901 Locust, Room 301, Kansas City, Missouri 64106; telephone: (816) 329-4146; fax: (816) 329-4090, has the authority to approve AMOCs for this AD, if requested using the procedures found in 14 CFR 39.19.

Related Information

(g) German AD Number D-2005-438, Effective Date: December 14, 2005, also addresses the subject of this AD.

Material Incorporated by Reference

(h) You must do the actions required by this AD following the information in RUAG AOT Dornier 228, All Operators Telefax service information No. AOT-228-24-028, Date of Issue: November 9, 2005. The Director of the Federal Register approved the incorporation by reference of this service bulletin in accordance with 5 U.S.C. 552(a) and 1 CFR part 51. To get a copy of this service information, contact RUAG Services GmbH, P.O. Box 1253, D-82231 Wessling, Germany; telephone: (08153) 302506; fax: (08153) 304601. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2006-24095; Directorate Identifier 2006-CE-21-AD.

Issued in Kansas City, Missouri, on May 24, 2006.
David R. Showers,
Acting Manager, Small Airplane Directorate, Aircraft Certification Service.

[FR Doc. 06-5045 Filed 6-2-06; 8:45 am]

BILLING CODE 4910-13-P